DEPARTMENT OF COMMERCE

International Trade Administration

[A-570-853]

Notice of Correction to the Amended Final Results of Antidumping Duty Administrative Review: Bulk Aspirin From the People's Republic of China

AGENCY: Import Administration, International Trade Administration, Department of Commerce.

ACTION: Correction to amended final results of antidumping duty administrative review.

EFFECTIVE DATE: July 12, 2004.

FOR FURTHER INFORMATION CONTACT: Julie Santoboni, Office 1, AD/CVD Enforcement, Import Administration, International Trade Administration, U.S. Department of Commerce, 14th Street and Constitution Avenue, NW., Washington DC 20230; telephone (202) 482-4194.

Background

On March 13, 2003, the Department of Commerce (“the Department”) published in the Federal Register the amended final results of its administrative review of bulk acetylsalicylic acid, commonly referred to as bulk aspirin, from the People's Republic of China (“PRC”) (Notice of Amended Final Results of Antidumping Duty Administrative Review: Bulk Aspirin from the People's Republic of China, 68 FR 12036 (March 13, 2003) (“Amended Final Results”)). In the Amended Final Results, the Department inadvertently stated in the cash deposit rates section that “if the exporter is not a firm covered in this review, the previous review, or the original investigation, but the manufacturer is, the cash deposit rate will be the rate established for the most recent period for the manufacturer of the merchandise.” The correct language, however, was used in the preliminary and final results of the same review (see Bulk Aspirin from the People's Republic of China: Preliminary Results of Antidumping Duty Administrative Review and Changed Circumstances Review, 67 FR 51167 (August 7, 2002) and Bulk Aspirin from the People's Republic of China; Final Results of Antidumping Duty Review, 68 FR 6710 (February 10, 2003), namely that, “for all other PRC exporters the cash deposit rate will be 144.02 percent, the PRC-wide rate established in the less than fair value investigation.” This language, therefore, corrects the cash deposit rates section of the Amended Final Results. The cash deposit instructions sent to U.S. Customs and Border Protection included the correct language.

We are issuing and publishing this determination and notice in accordance with sections 751(a)(1) and 777(i)(1) of the Act.

Dated: July 6, 2004.
James J. Jochum,
Assistant Secretary for Import Administration.

[FR Doc. 04-15735 Filed 7-9-04; 8:45 am]

BILLING CODE 3510-DS-P